DEPARTMENT OF STATE

[Public Notice: 10599]

Fine Arts Committee; Notice of Meeting

The Fine Arts Committee of the Department of State will meet on November 16, 2018 at 1:00 p.m. in the Henry Clay Room of the Harry S. Truman Building, 2201 C Street NW, Washington, DC 20520. The meeting will last until approximately 4:00 p.m. and is open to the public.

The agenda for the committee meeting will include a summary of the work of the Fine Arts Office since its last meeting on April 20, 2018 and the announcement of gifts and loans of furnishings as well as financial contributions from January 1, 2018 through October 15, 2018.

Public access to the Department of State is strictly controlled and space is limited. Members of the public wishing to take part in the meeting should telephone the Fine Arts Office at (202) 647-1990 or send an email to Curator@state.gov by November 9, 2018, providing their name, date of birth, citizenship, and a government-issued ID number [i.e., from a U.S. government ID (agency), U.S. military ID (branch), passport (country), or driver's license (state)] in order to gain admittance. All attendees must use the “C” Street entrance located at 2201 C Street NW, Washington, DC. One of the following valid IDs will be required for admittance: Any U.S. driver's license with photo, a passport, or a U.S. government agency or military ID. Attendees should expect to remain in the meeting for the entire session. The public may take part in the discussion as long as time permits and at the discretion of the chairman.

Personal data is being collected pursuant to 22 U.S.C. 2651a and 22 U.S.C. 4802 for the purpose of screening and pre-clearing participants to enter the host venue at the U.S. Department of State, in line with standard security procedures for events of this size. The Department of State will use this information consistent with the routine uses set forth in the System of Records Notices for Protocol Records (STATE-33) and Security Records (State-36). Provision of this information is voluntary, but failure to provide accurate information may impede your ability to register for the event.

Marcee F. Craighill,
Fine Arts Committee, Department of State.

[FR Doc. 2018-24116 Filed 11-2-18; 8:45 am]

BILLING CODE 4710-24-P